DEPARTMENT OF HEALTH AND HUMAN SERVICES

National Institutes of Health

National Cancer Institute; Amended Notice of Meeting

Notice is hereby given of a change in the meeting of the National Cancer Institute Special Emphasis Panel, February 17, 2011, 1 p.m. to February 17, 2011, 3 p.m., Legacy Hotel and Meeting Center, 1775 Rockville Pike, Rockville, MD 20852 which was published in the Federal Register on January 5, 2011, 76 FR 577.

This notice is amending the start time of the meeting from 1 p.m. to 8:30 a.m. The meeting is closed to the public.

Dated: January 13, 2011.
Jennifer S. Spaeth,
Director, Office of Federal Advisory Committee Policy.

[FR Doc. 2011-1151 Filed 1-19-11; 8:45 am]

BILLING CODE 4140-01-P